DEPARTMENT OF COMMERCE

National Oceanic and Atmospheric Administration

Proposed Monterey Peninsula Water Supply Project; Notice of Availability of a Draft Environmental Impact Report/Environmental Impact Statement; Extension of Public Comment Period

AGENCY: Office of National Marine Sanctuaries (ONMS), National Ocean Service (NOS), National Oceanic and Atmospheric Administration (NOAA), Department of Commerce (DOC).

ACTION: Extension of public comment period.

SUMMARY: On January 13, 2017 NOAA published a notice in the Federal Register to solicit public comment on the joint draft environmental impact report and environmental impact statement (EIR/EIS) that analyzes the potential effects on the physical and human environment related to a proposed reverse osmosis desalination facility project within the Monterey Bay National Marine Sanctuary boundaries. This document extends the public comment period for the draft EIR/EIS until March 29, 2017.

DATES: The comment period for the notice published January 13, 2017 (82 FR 4302) is extended. NOAA will accept public comments on the draft EIR/EIS if they are received on or before March 29, 2017.

ADDRESSES: You may submit comments on this document, identified by NOAA-NOS-2016-0156, by any of the following methods:

• Electronic Submission: Submit all electronic public comments via the Federal e-Rulemaking Portal. Go to www.regulations.gov/#!docketDetail;D=NOAA-NOS-2016-0156, click the “Comment Now!” icon, complete the required fields, and enter or attach your comments.

• Mail: Submit written comments to MBNMS Project Lead for CalAm Desalination Project, 99 Pacific Ave., BLDG 455a, Monterey, CA 93940.

• Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

FOR FURTHER INFORMATION CONTACT: Karen Grimmer at 99 Pacific Ave., BLDG 455a, Monterey, CA 93940, 831-647-4253, or mbnms.comments@noaa.gov.

SUPPLEMENTARY INFORMATION: As discussed in the January 13, 2017 notice (82 FR 4302), a permit application was submitted by California American Water Company (CalAm) to NOAA's Monterey Bay National Marine Sanctuary (MBNMS) for construction and operation of its proposed Monterey Peninsula Water Supply Project (MPWSP or Project) in order to supplement existing water supplies for CalAm's Monterey District service area. NOAA's proposed action would be whether to approve the installation of a subsurface seawater intake system, the discharge of brine into MBNMS via an existing outfall pipe, and the continued presence of pipelines in MBNMS to transport seawater to a desalination facility.

The joint draft environmental impact report and environmental impact statement (EIR/EIS) was prepared in accordance with Section 102(2)(C) of the National Environmental Policy Act (NEPA) of 1969, as amended, and the White House Council on Environmental Quality Regulations for Implementing the Procedural Provisions of NEPA (CEQ NEPA Regulations). NOAA is seeking public comment on the DEIR/DEIS, which is available at http://montereybay.noaa.gov or may be obtained by contacting the individual listed under the heading FOR FURTHER INFORMATION CONTACT. The original comment period was to end on February 27, 2017.

Due to the length of the document, NOAA and its state partner have received a request to extend the public comment period to allow for additional review time. An extension of the public comment period may also benefit other interested stakeholders. Therefore, NOAA has extended the deadline by 30 days, or until March 29, 2017.

Authority: 16 U.S.C. 1431 et seq.

Dated: February 16, 2017.
John Armor,
Director for the Office of National Marine Sanctuaries.

[FR Doc. 2017-03747 Filed 2-27-17; 8:45 am]

BILLING CODE 3510-NK-P